DEPARTMENT OF THE INTERIOR

Minerals Management Service

Agency Information Collection Activities: Proposed Collection; Comment Request

AGENCY: Minerals Management Service (MMS), Interior.

ACTION: Notice of extension of an information collection (1010-0006).

SUMMARY: To comply with the Paperwork Reduction Act of 1995 (PRA), we are inviting comments on a collection of information that we will submit to the Office of Management and Budget (OMB) for review and approval. The information collection request (ICR) concerns the paperwork requirements in the regulations under 30 CFR part 256, “Leasing of Sulphur or Oil and Gas in the Outer Continental Shelf.”

DATES: Submit written comments by November 10, 2003.

ADDRESSES: Mail or hand carry comments to the Department of the Interior; Minerals Management Service; Attention: Rules Processing Team; Mail Stop 4024; 381 Elden Street; Herndon, Virginia 20170-4817. If you wish to e-mail comments, the address is: rules.comments@mms.gov. Reference “Information Collection 1010-0006” in your e-mail subject line and mark your message for return receipt. Include your name and return address in your message.

FOR FURTHER INFORMATION CONTACT: Arlene Bajusz, Rules Processing Team, (703) 787-1600. You may also contact Arlene Bajusz to obtain a copy, at no cost, of the regulations that require the subject collection of information.

SUPPLEMENTARY INFORMATION: Title: 30 CFR Part 256, Leasing of Sulphur or Oil and Gas in the Outer Continental Shelf.

OMB Control Number: 1010-0006.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. The Energy Policy and Conservation Act of 1975 (EPCA) prohibits certain lease bidding arrangements (42 U.S.C. 6213 (c)).

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those that accrue to the public at large. Instruments of transfer of a lease or interest are subject to cost recovery, and MMS regulations specify filing fees for these transfer applications.

The MMS uses the information required by 30 CFR part 256 to determine if applicants are qualified to hold leases in the OCS. Specifically, MMS uses the information to:

• Verify the qualifications of a bidder on an OCS lease sale. Once the required information is filed with MMS, a qualification number is assigned to the bidder so that duplicate information is not required on subsequent filings.

• Develop the semiannual List of Restricted Joint Bidders. This identifies parties ineligible to bid jointly with each other on OCS lease sales, under limitations established by the EPCA.

• Ensure the qualification of assignees. Once a lease is awarded, the transfer of a lessee's interest to another qualified party must be approved by an MMS regional director.

• Obtain information and nominations on oil and gas leasing, exploration, and development and production. Early planning and consultation ensure that all interests and concerns are communicated to us for future decisions in the leasing process.

• Document that a leasehold or geographical subdivision has been surrendered by the record title holder.

• Verify that lessees have adequate bonding coverage. Respondents must submit their bonds certification forms: “Form MMS-2028, Outer Continental Shelf Mineral Lessee's and Operator's Bond,” and Form MMS-2028A, “Outer Continental Shelf Mineral Lessee's and Operator's Supplemental Plugging & Abandonment Bond.” The MMS uses these documents to hold the surety libel for the obligations and liability of the principal/lessee or operator.

We will protect information from respondents considered proprietary under the Freedom of Information Act (5 U.S.C. 552) and its implementing regulations (43 CFR part 2) and under regulations at 30 CFR parts 250, 251, and 252. No items of a sensitive nature are collected. Responses are mandatory or required to obtain or retain a benefit.

Frequency: The frequency of reporting is annual and on occasion.

Estimated Number and Description of Respondents: Approximately 130 Federal OCS oil and gas or sulphur lessees, as well as the affected States and local governments.

Estimated Reporting and Recordkeeping “Hour” Burden: The currently approved annual reporting burden for this collection is 16,329 hours. The following chart details the individual components and respective hour burden estimates of this ICR. In calculating the burdens, we assumed that respondents perform certain requirements in the normal course of their activities. We consider these to be usual and customary and took that into account in estimating the burden.

Citation 30 CFR part 256 | Reporting requirement | Hour burden
Subparts A, C, E, H, L, M | None | 0
Subparts G, H, I, J: 256.37, 256.53, 256.68, 256.70, 256.71, 256.72, 256.73 | Request approval for various operations or submit plans or applications. [Burden included with other approved collections in 30 CFR 250.] | 0
Subpart B: 256.16, 256.17, 250.20 | Submit response to request/call for information, comments, and interest in areas for mineral leasing, including information from States/local governments | 4
Subpart D: All sections
Subpart F: 256.31 | States or local governments submit comments/recommendations on size, timing or location of proposed lease sale | 4
Subpart G: 256.35, 256.46(d), (e) | Establish a Company File for pre-qualification purposes; submit updated information | 2
256.41, 256.43, 256.46(g) | Submit qualification of bidders for joint bids and statement or report of production | 4½
256.44, 256.46 | Submit bids and required information | 5
256.47(c) | File agreement to accept joint lease on tie bids | 3½
256.47(e)(1), (e)(3) | Request for reconsideration of bid rejection. [Exempt as defined in 5 CFR 1320(h)(9).] | 0
256.47(f), (i), 256.50 | Execute lease (includes submission of evidence of authorized agent and request for dating of leases) | 1
Subpart I: 256.54 | OCS Mineral Lessee's and Operator's Bond (form MMS-2028) | ¼
256.54 | OCS Mineral Lessee's and Operator's Supplemental Plugging & Abandonment Bond (form MMS-2028A) | ¼
256.52(f)(2), (g)(2) | Submit authority for Regional Director to sell Treasury or alternate type of securities | 2
256.53(c), (d), (f); 256.54(d)(3) | Demonstrate financial worth/ability to carry out present and future financial obligations, request approval of another form of security, or request reduction in amount of supplemental bond required | 2½
256.55 | Notify MMS of any lapse in previous bond/action filed alleging lessee, surety, or guarantor is insolvent or bankrupt | ½
256.56 | Provide plan/instructions to fund lease-specific abandonment account and related information; request approval to withdraw funds | 11
256.57 | Provide third-party guarantee, indemnity agreement, related notices, and annual update; notify MMS if guarantor becomes unqualified | 16½
256.57(d)(3), 256.58 | Notice of and request approval to terminate period of liability, cancel bond, or other security | ½
256.59(c)(2) | Provide information to demonstrate lease will be brought into compliance | 14
Subpart J: 256.62, 256.64, 256.65, 56.67 | File application for assignment or transfer for approval | 1
256.64(a)(7) | File required instruments creating or transferring working interests, etc., for record purposes | ½
256.64(a)(8) | Submit non-required documents, for record purposes, which respondents want MMS to file with the lease document. [Accepted on behalf of lessees as a service, but MMS does not require nor need the filings.] | 0
Subpart K: 256.76 | File written request for relinquishment | 1
All Subparts | General departure and alternative compliance requests not specifically covered elsewhere in Part 256 | 1

Estimated Annual Reporting and Recordkeeping “Non-Hour Cost” Burden: The currently approved “non-hour cost” burden for this information collection is a total of $414,000. This cost burden is for filing fees associated with submitting requests for approval of instruments of transfer ($185 per application) or to file non-required documents for record purposes ($25 per filing).

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. If you wish us to withhold your name and/or address, you must state this prominently at the beginning of your comment. MMS will honor this request to the extent allowable by law; however, we will not consider anonymous comments. We will make all submissions from organizations or businesses, and from individuals identifying themselves as representatives or officials of organizations or businesses, available for public inspection in their entirety.

MMS Federal Register Liaison Officer: Denise Johnson, (202) 208-3976.

Dated: August 9, 2003.
E.P. Danenberger,
Chief, Engineering and Operations Division.

[FR Doc. 03-22974 Filed 9-9-03; 8:45 am]

BILLING CODE 4310-MR-U